DEPARTMENT OF HEALTH AND HUMAN SERVICES

Public Consultation Meeting of the Trans-Federal Task Force on Optimizing Biosafety and Biocontainment Oversight

AGENCY: Department of Health and Human Services, Office of the Secretary.

ACTION: Notice.

SUMMARY: The U.S. Department of Health and Human Services is hereby giving notice that the Trans-Federal Task Force on Biosafety and Biocontainment Oversight will be holding a public consultation meeting. The meeting is open to the public.

DATES: The Trans-Federal Task Force on Biosafety and Biocontainment Oversight will hold a public consultation meeting on December 8, 2008 from 8:30 a.m. to 5 p.m. EST and December 9, 2008 from 8:30 a.m. to 2:45 p.m. EST.

ADDRESSES: The Bethesda North Marriott Hotel and Conference Center, 5701 Marinelli Road, North Bethesda, MD 20852. Phone: 301-822-9200.

FOR FURTHER INFORMATION CONTACT: CAPT Theresa Lawrence, Ph.D., Office of Medicine, Science and Public Health, Office of the Assistant Secretary for Preparedness and Response, U.S. Department of Health and Human Services, 330 C Street, SW., Room 5008C, Washington, DC 20447; phone: 202-401-5879; fax: 202-205-8494; e-mail address: biosafetytaskforce@hhs.gov.

SUPPLEMENTARY INFORMATION: The Federal government established the Trans-Federal Task Force on Optimizing Biosafety and Biocontainment Oversight to undertake an intensive analysis of the current framework of biosafety and biocontainment oversight of research activities involving infectious agents and toxins in high- and maximum-containment research facilities. The Task Force envisions effective comprehensive local and Federal oversight that protects laboratory workers, public health, agriculture, and the environment while fostering progress in life sciences research. The Task Force is chaired by officials from the U.S. Department of Health and Human Services and the U.S. Department of Agriculture and is comprised of representatives from a broad range of Federal departments and agencies that have responsibility for, and oversight of, the management of biohazard risks.

Background: The Task Force's purpose is to “explore methods to improve biosafety oversight in the United States to include a review of mechanisms by which the Federal Government can ensure safe working conditions in laboratories handling infectious agents.” This public consultation meeting will allow the Task Force to obtain individual input from members of the public on several aspects of biosafety and biocontainment oversight in the U.S. The meeting's dialogue will focus on a series of questions on which the U.S. Government would specifically like to solicit comment. These questions concern such matters as the identification of gaps in the current oversight framework and options for improvement, including how to optimize biosafety and biocontainment oversight while simultaneously protecting laboratory workers, public health, agriculture, and the environment. The agenda and questions for discussion will be available prior to the meeting at the Web site http://www.hhs.gov/aspr/omsph/biosafetytaskforce/index.html. All public comments and recommendations will be considered by the Task Force.

Availability of Materials: The agenda and other materials will be posted on the Task Force's Web site at http://www.hhs.gov/aspr/omsph/biosafetytaskforce/index.html prior to the meeting.

Procedures for Providing Public Input: Public participation in this meeting of the Task Force is encouraged. Interested members of the public may attend the meeting in person or participate by public teleconference. Any member of the public wishing to obtain information regarding participation by teleconference should consult the Web site: http://www.hhs.gov/aspr/omsph/biosafetytaskforce/index.html or contact CAPT Theresa Lawrence (preferably by e-mail) for more information. Interested members of the public may submit relevant written or oral information for the Task Force to consider. Oral and written information that is submitted may be made be available to the public; therefore, we request that statements do not include private or proprietary information. Oral Statements: Thirty minutes will be available each day of the meeting for public comment. In general, each speaker (or group of speakers) requesting an oral presentation will be limited to three minutes. To be placed on the public speaker list, interested parties should contact CAPT Theresa Lawrence in writing (preferably via e-mail), by November 28, 2008. Written Statements: In general, individuals or groups may file written comments with the Task Force. All written comments must be received prior to December 12, 2008 and should be sent to CAPT Theresa Lawrence (preferably by e-mail with “Task Force Public Comment” as the subject line). Individuals needing special assistance should notify CAPT Theresa Lawrence (preferably by e-mail) by November 28, 2008.

Dated:November 18, 2008.
RADM William C. Vanderwagen,
Assistant Secretary for Preparedness and Response, U.S. Department of Health and Human Services.

[FR Doc. E8-28013 Filed 11-24-08; 8:45 am]

BILLING CODE 4150-37-P